DEPARTMENT OF ENERGY

Federal Energy Regulatory Commission

[Project No. 2660-024]

Domtar Maine Corporation; Notice of Application Tendered for Filing With the Commission, Soliciting Additional Study Requests, and Establishing Procedual Schedule for Licensing and Deadline for Submission of Final Amendments

March 26, 2009.

Take notice that the following hydroelectric application has been filed with the Commission and is available for public inspection.

a. Type of Application: New License.

b. Project No.: 2660-024.

c. Date Filed: March 19, 2009.

d. Applicant: Domtar Maine Corporation.

e. Name of Project: Forest City Project.

f. Location: On Forest City Stream, a portion of the St. Croix River in Washington and Aroostock Counties, Maine and Canada. The project does not affect federal lands.

g. Filed Pursuant to: Federal Power Act 16 U.S.C. 791(a)-825(r).

h. Applicant Contact: Mr. Scott Beal, Domtar Maine Corporation, 144 Main Street, Baileyville, Maine 04694 (207) 427-4004.

i. FERC Contact: John Costello, (202) 502-6119 or john.costello@ferc.gov.

j. Cooperating agencies: We are asking Federal, state, local, and tribal agencies with jurisdiction and/or special expertise with respect to environmental issues to cooperate with us in the preparation of the environmental document. Agencies who would like to request cooperating status should follow the instructions for filing such requests described in item l below. Cooperating agencies should note the Commission's policy that agencies that cooperate in the preparation of the environmental document cannot also intervene. See, 94 FERC ¶ 61,076 (2001).

k. Pursuant to section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: May 18, 2009.

All documents (original and eight copies) should be filed with: Kimberly D. Bose, Secretary, Federal Energy Regulatory Commission, 888 First Street, NE., Washington, DC 20426.

Additional study requests and requests for cooperating agency status may be filed electronically via the Internet in lieu of paper. The Commission strongly encourages electronic filings. See 18 CFR 385.2001(a)(1)(iii) and the instructions on the Commission's Web site (http://www.ferc.gov) under the “eFiling” link.

m. This application is not ready for environmental analysis at this time.

n. The existing Forest City Project comprise an earth embankment dam containing a gated timber spillway and two impoundments (East Grand and North lakes). There are no generating facilities located at the project. Approximately one-quarter of the 544-foot-long dam (i.e., approximately 147 feet) is within the United States. The United States (western) section of the dam is an earth embankment measuring approximately 110 feet long with a maximum height of 12 feet.

The center section of the dam (i.e., that portion located in the river channel) contains a 55-foot-wide gated timber crib spillway structure with three wooden gates (gates 1 and 2 are located within the United States). The spillway is approximately 33 feet wide with an elevation of 426.61 feet. A 5-foot-wide vertical slot design fishway is located in Canada. The eastern (Canadian) embankment is an earth structure approximately 397 feet long, 30 feet long with a crest elevation of 437.27 feet msl.

No new construction is planned.

o. A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item h above.

You may also register online at http://www.ferc.gov/docs-filing/esubscription.asp to be notified via e-mail of new filings and issuances related to this or other pending projects. For assistance, contact FERC Online Support.

p. With this notice, we are initiating consultation with the Maine State Historic Preservation Officer (SHPO), as required by section 106, National Historic Preservation Act, and the regulations of the Advisory Council on Historic Preservation, 36 CFR at section 800.4.

q. Procedural schedule and final amendments: The application will be processed according to the following Hydro Licensing Schedule. Revisions to the schedule will be made as appropriate. The Commission staff proposes to issue one environmental assessment rather than issue a draft and final EA. The assessment for Domtar's application for new license for the West Branch Project, P-2618-020, may be included with the Forest City EA. Comments, terms and conditions, recommendations, prescriptions, and reply comments, if any, will be addressed in an EA. Staff intends to give at least 30 days for entities to comment on the EA, and will take into consideration all comments received on the EA before final action is taken on the license application.

Issue Acceptance letter/Additional Information Requests | May 2009.
Issue Scoping Document | June 2009.
Additional Information Response due | September 2009.
Notice of application is ready for environmental analysis | October 2009.
Comments, recommendations, prescriptions due | December 2009.
Notice of availability of the EA | June 2010.

Final amendments to the application must be filed with the Commission no later than 30 days from the issuance date of the notice of ready for environmental analysis.

Kimberly D. Bose,
Secretary.

[FR Doc. E9-7346 Filed 4-1-09; 8:45 am]

BILLING CODE 6717-01-P